DEPARTMENT OF AGRICULTURE

Office of the Secretary

Solicitation of Members to the National Agricultural Research, Extension, Education, and Economics Advisory Board

AGENCY: Research, Education, and Economics, USDA.

ACTION: Solicitation for membership.

SUMMARY: The notice to announce the solicitation of members to the National Agricultural Research, Extension, Education, and Economics Advisory Board. The notice was published in the Federal Register on April 22, 2011. The document left out a phrase in the third paragraph of the SUPPLEMENTARY INFORMATION section.

FOR FURTHER INFORMATION CONTACT: J. Robert Burk, 202-720-3684.

Correction

In the Federal Register of April 22, 2011, in FR Doc. 2011-9638, on page 22667, in the SUPPLEMENTARY INFORMATION section, correct to read as follows:

Nominations are open to all individuals without regard to race, color, religion, sex, national origin, age, mental or physical handicap, marital status, or sexual orientation. To ensure that recommendations of the Advisory Board take into account the needs of the diverse groups served by the Department, membership shall include, to the extent practicable, individuals with demonstrated ability to represent all racial and ethnic groups, women and men, and person with disabilities.

Yvette Anderson,
Federal Register Liaison Officer for Agriculture Research Service.

[FR Doc. 2011-10915 Filed 5-3-11; 8:45 am]

BILLING CODE P